DEPARTMENT OF ENERGY

Federal Energy Regulatory Commission

[Project No. 2315-178]

Dominion Energy South Carolina, Inc.; Notice of Intent To Prepare an Environmental Assessment

On May 23, 2024, as supplemented on September 9, 2024, Dominion Energy South Carolina, Inc. (DESC) filed an application for a non-capacity amendment of the license for the Neal Shoals Hydroelectric Project No. 2315. The project is located on the Broad River in South Carolina and occupies Federal lands administered by the Sumter National Forest.

The licensee proposes to replace the four existing turbines in the powerhouse with eight submersible turbine-generator units to be installed at the existing draft tube openings and construct a new substation and underground duct bank at the project. The licensee proposes to decouple the existing generators, which would no longer be needed, and decommission and abandon them in place. The licensee expects the project's generating capacity to increase from 4.4 MW to 5.6 MW and hydraulic capacity to decrease from 3,500 cfs to 3,160 cfs.

On September 30, 2024, the Commission issued a public notice for the proposed amendment. On October 30, 2024, the South Caronia Department of Natural Resources filed comments on the proposal. DESC filed a response to comments on November 8, 2024.

This notice identifies Commission staff's intention to prepare an environmental assessment (EA) for the project.¹ Commission staff plans to issue an EA by July 18, 2025. Revisions to the schedule may be made as appropriate. The EA will be issued for a 30-day comment period. All comments filed on the EA will be reviewed by staff and considered in the Commission's final decision on the proceeding.

¹ In accordance with the Council on Environmental Quality's regulations, the unique identification number for documents relating to this environmental review is EAXX-019-20-000-1732197559. 40 CFR 1501.5(c)(4) (2024).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Elizabeth Moats at 202-502-6632 or Elizabeth.OsierMoats@ferc.gov.

Dated: November 27, 2024.
Debbie-Anne A. Reese,
Secretary.

[FR Doc. 2024-28407 Filed 12-3-24; 8:45 am]

BILLING CODE 6717-01-P